DEPARTMENT OF EDUCATION

[Docket No.: ED-2020-SCC-0141]

Agency Information Collection Activities; Submission to the Office of Management and Budget for Review and Approval; Comment Request; 21st CCLC 4201(b)(1) Waiver Request

AGENCY: Office of Elementary and Secondary Education, Department of Education (ED).

ACTION: Notice.

SUMMARY: In accordance with the Paperwork Reduction Act of 1995, ED is proposing an extension without change of a currently approved collection.

DATES: Interested persons are invited to submit comments on or before December 10, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Miriam Lund, 202-401-2871.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 21st CCLC 4201(b)(1) Waiver Request.

OMB Control Number: 1810-0746.

Type of Review: Extension without change of a currently approved collection.

Respondents/Affected Public: State, Local, and Tribal Governments.

Total Estimated Number of Annual Responses: 53.

Total Estimated Number of Annual Burden Hours: 159.

Abstract: The Nita M. Lowey 21st Century Community Learning Centers (21st CCLC) grant program intends to offer a waiver available to State education agencies (SEAs) based on section 8401 [20 U.S.C. 7861] of the Elementary and Secondary Education Act, as reauthorized by the Every Student Succeeds Act (ESSA) in 2015 to allow SEAs to waive the definition of Community Learning Center(s) for implementation of services during “nonschool hours or periods when school is not in session (such as before and after school or during summer recess)” per section 4201 (b)(1)(A) [20 U.S.C. 7171] for 21st CCLC programs in school year 2020-2021. The purpose for this new collection is to collect waiver requests from each State wishing to take advantage of the waiver.

Dated: November 4, 2020.
Kate Mullan,
PRA Coordinator, Strategic Collections and Clearance, Governance and Strategy Division, Office of Chief Data Officer, Office of Planning, Evaluation and Policy Development.

[FR Doc. 2020-24867 Filed 11-9-20; 8:45 am]

BILLING CODE 4000-01-P